DEPARTMENT OF HEALTH AND HUMAN SERVICES

Centers for Medicare & Medicaid Services

Privacy Act of 1974; Matching Program

AGENCY: Center for Consumer Information and Insurance Oversight (CCIIO), Centers for Medicare & Medicaid Services (CMS), Department of Health and Human Services (HHS).

ACTION: Notice of a new matching program.

SUMMARY: In accordance with the Privacy Act of 1974, as amended, the Department of Health and Human Services (HHS), Centers for Medicare & Medicaid Services (CMS) is providing notice of the re-establishment of a computer matching program between CMS and the Office of Personnel Management (OPM), “Verification of Eligibility of Minimum Essential Coverage Under the Patient Protection and Affordable Care Act through an Office of Personnel Management Health Benefit Plan.”

DATES: The deadline for comments on this notice is June 3, 2021. The re-established matching program will commence not sooner than 30 days after publication of this notice, provided no comments are received that warrant a change to this notice. The matching program will be conducted for an initial term of 18 months (from approximately June 8, 2021 to December 7, 2022) and within three months of expiration may be renewed for one additional year if the parties make no change to the matching program and certify that the program has been conducted in compliance with the matching agreement.

ADDRESSES: Interested parties may submit comments:

1. Electronically. You may send your comments electronically to http://www.regulations.gov. Follow the instructions for “Comment or Submission” or “More Search Options” to find the information collection document(s) that are accepting comments.

2. By Regular Mail. You may mail written comments to the following address: Centers for Medicare & Medicaid Services, Division of Security, Privacy Policy & Governance, Information Security & Privacy Group, Office of Information Technology, Location: N1-14-56, 7500 Security Blvd., Baltimore, MD 21244-1850.

FOR FURTHER INFORMATION CONTACT: If you have questions about the matching program, you may contact Anne Pesto, Senior Advisor, Marketplace Eligibility and Enrollment Group, Center for Consumer Information and Insurance Oversight, Centers for Medicare & Medicaid Services, at 410-786-3492, by email at anne.pesto@cms.hhs.gov, or by mail at 7500 Security Blvd., Baltimore, MD 21244.

SUPPLEMENTARY INFORMATION: The Privacy Act of 1974, as amended (5 U.S.C. 552a) provides certain protections for individuals applying for and receiving federal benefits. The law governs the use of computer matching by federal agencies when records in a system of records (meaning, federal agency records about individuals retrieved by name or other personal identifier) are matched with records of other federal or non-federal agencies. The Privacy Act requires agencies involved in a matching program to:

1. Enter into a written agreement, which must be prepared in accordance with the Privacy Act, approved by the Data Integrity Board of each source and recipient federal agency, provided to Congress and the Office of Management and Budget (OMB), and made available to the public, as required by 5 U.S.C. 552a(o), (u)(3)(A), and (u)(4).

2. Notify the individuals whose information will be used in the matching program that the information they provide is subject to verification through matching, as required by 5 U.S.C. 552a(o)(1)(D).

3. Verify match findings before suspending, terminating, reducing, or making a final denial of an individual's benefits or payments or taking other adverse action against the individual, as required by 5 U.S.C. 552a(p).

4. Report the matching program to Congress and the OMB, in advance and annually, as required by 5 U.S.C. 552a(o)(2)(A)(i), (r), and (u)(3)(D).

5. Publish advance notice of the matching program in the Federal Register as required by 5 U.S.C. 552a(e)(12).

This matching program meets these requirements.

Barbara Demopulos,
Privacy Officer, Division of Security, Privacy Policy and Governance, Office of Information Technology, Centers for Medicare & Medicaid Services.

Participating Agencies

The Department of Health and Human Services (HHS), Centers for Medicare & Medicaid Services (CMS) is the recipient agency, and the Office of Personnel Management (OPM) is the source agency.

Authority for Conducting the Matching Program

The principal authority for conducting the matching program is 42 U.S.C. 18001 et seq.

Purpose(s)

The purpose of the matching program is to provide CMS with OPM data which CMS and state Administering Entities (AEs) need to determine individuals' eligibility for financial assistance in paying for private health insurance coverage, under provisions of the Patient Protection and Affordable Care Act. In this matching program, OPM provides CMS with monthly data identifying each active federal employee's status as enrolled in or eligible for coverage under an OPM Health Benefit Plan, and an annual premium spread index file identifying the lowest premium available to a federal employee in each of 32 premium localities. CMS and AEs use the OPM data to verify whether an individual who is applying for or is enrolled in private health insurance coverage under a qualified health plan through a federally-facilitated or state-based health insurance exchange is eligible for coverage under an OPM health benefit plan, for the purpose of determining if the individual is eligible for financial assistance (including an advance tax credit and cost sharing reduction, which are types of insurance affordability programs) in paying for the private coverage. OPM health benefit plans provide minimum essential coverage, and eligibility for such plans precludes eligibility for financial assistance in paying for private coverage.

Categories of Individuals

The categories of individuals whose information is involved in the matching program are:

• Active federal employees; and

• Consumers who apply for or are enrolled in a qualified health plan through an exchange established under the Patient Protection and Affordable Care Act and receive determinations of eligibility for insurance affordability programs.

Categories of Records

The categories of records used in the matching program are identity information about the above consumers, which are maintained by CMS, and identity information and minimum essential coverage period records about all active federal employees, and annual premium information, maintained by OPM. The data elements provided to CMS by OPM are as follows:

• Monthly status file:

a. Record type;

b. Record number;

c. Unique person ID;

d. Social security number;

e. Last name;

f. Middle name;

g. First name;

h. Last name suffix;

i. Gender;

j. Date of birth; and

k. Health plan code.

• Annual Premium Spread Index File:

a. State;

b. Plan;

c. Option;

d. Enrollment code;

e. Current total bi-weekly premium;

f. Future total bi-weekly premium;

g. Future government pays bi-weekly premium;

h. Future employee pays bi-weekly premium;

i. Future change in employee payment bi-weekly premium;

j. Current total monthly premium;

k. Future total monthly premium;

l. Future government pays monthly premium;

m. Future employee pays monthly premium; and

n. Future change in employee payment monthly premium.

CMS will not send any data about individual applicants or enrollees to OPM in order to receive this data from OPM.

System(s) of Records

The records used in the matching program are maintained in these systems of records:

• CMS Health Insurance Exchanges System (HIX), System No. 09-70-0560, last published in full at 78 FR 63211 (Oct. 23, 2013), and amended at 83 FR 6591 (Feb. 14, 2018).

• OPM/GOVT-1 General Personnel Records, last published in full at 77 FR 73694 (Dec. 11, 2012), and amended at 80 FR 42133 (July 16, 2015) and 80 FR 74815 (Nov. 30, 2015). The disclosures of OPM data to CMS are authorized by Routine Use “rr”.

[FR Doc. 2021-09292 Filed 5-3-21; 8:45 am]

BILLING CODE 4120-03-P